DEPARTMENT OF LABOR

Office of the Secretary

National Advisory Committee for Labor Provisions of U.S. Free Trade Agreements; Notice of Open Meeting

AGENCY: Bureau of International Labor Affairs, U.S. Department of Labor.

ACTION: Notice of open meeting, February 2, 2016.

SUMMARY: Pursuant to the Federal Advisory Committee Act (FACA), as amended, 5 U.S.C. App. 2, the Office of Trade and Labor Affairs (OTLA) gives notice of a meeting of the National Advisory Committee for Labor Provisions of U.S. Free Trade Agreements (“Committee” or “NAC”), which was established by the Secretary of Labor. The purpose of the meeting is to discuss the implementation of the labor provisions of free trade agreements and to identify the Committee's priority countries and issues for 2016.

DATES: The Committee will meet on Tuesday, February 2, 2016, from 9:30 a.m. to 4:30 p.m.

ADDRESSES: The Committee will meet at the U.S. Department of Labor, 200 Constitution Avenue NW., Deputy Undersecretary's Conference Room, Washington, DC 20210.

FOR FURTHER INFORMATION CONTACT: Donna Chung, Designated Federal Official, Office of Trade and Labor Affairs, Bureau of International Labor Affairs, U.S. Department of Labor, 200 Constitution Avenue NW., Room S-5004, Washington, DC 20210; phone (202) 693-4861 (not a toll free number); fax (202) 693-4784 (not a toll free number).

Individuals with disabilities wishing to attend the meeting should contact Ms. Chung no later than January 25, 2016, to obtain appropriate accommodations.

SUPPLEMENTARY INFORMATION: NAC meetings are open to the public on a first-come, first-served basis, as seating is limited. Attendees must present valid identification and will be subject to security screening to access the Department of Labor for the meeting.

Agenda: Agenda items will include an update and discussion on the implementation of the labor provisions of free trade agreements and a discussion of the Committee's views of priority countries and issues for 2016.

Public Participation: Written data, views, or comments for consideration by the NAC on the agenda listed above should be submitted to Donna Chung at the address listed above. Submissions received by January 25, 2016, will be provided to Committee members and will be included in the record of the meeting. The Committee may take comments or questions from members of the public that were not submitted in writing by January 25 if time permits.

Signed in Washington, DC, on December 30, 2015.
Carol Pier,
Deputy Undersecretary for International Affairs.

[FR Doc. 2015-33248 Filed 1-5-16; 8:45 am]

BILLING CODE 4510-28-P